DEPARTMENT OF ENERGY

Federal Energy Regulatory Commission

[Project No. 2610-011]

Northern States Power Company-Wisconsin; Notice of Intent To File License Application, Filing of Pre-Application Document, and Approving Use of the Traditional Licensing Process

a. Type of Filing: Notice of Intent to File License Application and Request to Use the Traditional Licensing Process.

b. Project No.: 2610-011.

c. Date Filed: December 30, 2019.

d. Submitted By: Northern States Power Company-Wisconsin (Northern States Power).

e. Name of Project: Saxon Falls Hydroelectric Project.

f. Location: On the Montreal River, in Iron County, Wisconsin and Gogebic County, Michigan. No federal lands are occupied by the project works or located within the project boundary.

g. Filed Pursuant to: 18 CFR 5.3 and 5.5 of the Commission's regulations.

h. Potential Applicant Contact: James Zyduck, Northern States Power Company, 1414 West Hamilton Avenue, Post Office Box 8, Eau Claire, WI 54702-0008; (715) 737-1136; email at James.Zyduck@XcelEnergy.com.

i. Lee Emery at (202) 502-8379; or email at lee.emery@ferc.gov.

j. Northern States Power filed its request to use the Traditional Licensing Process on December 30, 2019, and provided public notice of the request on December 26, 2019. In a letter dated February 13, 2020, the Director of the Division of Hydropower Licensing approved Northern States Power's request to use the Traditional Licensing Process.

k. With this notice, we are initiating informal consultation with the U.S. Fish and Wildlife Service and/or the National Oceanic and Atmospheric Administration (NOAA) Fisheries under section 7 of the Endangered Species Act and the joint agency regulations thereunder at 50 CFR part 402; and NOAA Fisheries under section 305(b) of the Magnuson-Stevens Fishery Conservation and Management Act and implementing regulations at 50 CFR 600.920. We are also initiating consultation with the Michigan and Wisconsin State Historic Preservation Officers as required by section 106 of the National Historic Preservation Act and implementing regulations of the Advisory Council on Historic Preservation at 36 CFR 800.2.

l. With this notice, we are designating Northern States Power as the Commission's non-federal representative for carrying out informal consultation pursuant to section 7 of the Endangered Species Act and section 305(b) of the Magnuson-Stevens Fishery Conservation and Management Act; and consultation pursuant to section 106 of the National Historic Preservation Act.

m. On December 30, 2019, Northern States Power filed a Pre-Application Document (PAD); including a proposed process plan and schedule with the Commission, pursuant to 18 CFR 5.6 of the Commission's regulations.

n. A copy of the PAD is available for review at the Commission in the Public Reference Room or may be viewed on the Commission's website (http://www.ferc.gov), using the eLibrary link. Enter the docket number, excluding the last three digits in the docket number field to access the document. For assistance, contact FERC Online Support at FERConlineSupport@ferc.gov, (866) 208-3676 (toll free), or (202) 502-8659 (TTY). A copy is also available for inspection and reproduction at the address in paragraph h.

o. The licensee states its unequivocal intent to submit an application for a subsequent license for Project No. 2610. Pursuant to 18 CFR 16.20, each application for a subsequent license and any competing license applications must be filed with the Commission at least 24 months prior to the expiration of the existing license. All applications for license for this project must be filed by December 31, 2022.

p. Register online at http://www.ferc.gov/docs-filing/esubscription.asp to be notified via email of new filings and issuances related to this or other pending projects. For assistance, contact FERC Online Support.

Dated: February 13, 2020.
Nathaniel J. Davis, Sr.,
Deputy Secretary.

[FR Doc. 2020-03389 Filed 2-19-20; 8:45 am]

BILLING CODE 6717-01-P